DEPARTMENT OF LABOR

Veterans' Employment and Training Service

Solicitation of Nominations for Appointment to the Advisory Committee on Veterans' Employment, Training, and Employer Outreach (ACVETEO)

AGENCY: Veterans' Employment and Training Service (VETS), Department of Labor (DOL).

ACTION: Notice.

SUMMARY: In accordance with section 4110 of Title 38, U.S. Code, and the provisions of the Federal Advisory Committee Act (FACA) and its implementing regulations issued by the U.S. General Services Administration (GSA), the Secretary of Labor (the Secretary) is seeking nominations of qualified candidates to be considered for appointment as members of the Advisory Committee on Veterans' Employment, Training, and Employer Outreach (ACVETEO, or the Committee). The term of membership for all Committee members is February 1, 2019 through January 31, 2022.

DATES: Nominations for membership on the Committee must be received no later than 11:59 p.m. EST on September 28, 2018. Packages received after this time will not be considered for the current membership cycle. Please allow three weeks for regular mail delivery to the Department of Labor.

All nomination packages should be sent to the Assistant Designated Federal Official by email to green.gregory.b@dol.gov subject line “2019 ACVETEO Nomination” or mailed to the following address: Department of Labor/VETS, Attn: Gregory Green, Room S-1312, 200 Constitution Ave. NW, Washington, DC 20210.

For more information, contact Gregory B. Green, Assistant Designated Federal Official, ACVETEO, U.S. Department of Labor, 200 Constitution Ave. NW, Room S-1312, Washington, DC 20210; telephone (202) 693-4734.

SUPPLEMENTARY INFORMATION: DOL is soliciting nominations for members to serve on the Committee. As required by statute, the members of the Committee are appointed by the Secretary from the general public. DOL seeks nominees with the following experience:

(1) Diversity in professional and personal qualifications;

(2) Experience in military service;

(3) Current work with veterans;

(4) Veterans disability subject matter expertise;

(5) Experience working in large and complex organizations;

(6) Experience in transition assistance;

(7) Experience in the protection of employment and reemployment rights;

(8) Experience in education, skills training, integration into the workforce and outreach;

(9) Understanding of licensing and credentialing issues; and/or

(10) Experience in military/veteran apprenticeship programs.

The ACVETEO's responsibilities are to: (a) Assess employment and training needs of veterans and their integration into the workforce; (b) determine the extent to which the programs and activities of the Department are meeting such needs; (c) assist the Assistant Secretary for Veterans' Employment and Training (ASVET) in conducting outreach to employers with respect to the training and skills of veterans and the advantages afforded employers by hiring veterans; (d) make recommendations to the Secretary of Labor, through the ASVET, with respect to outreach activities and the employment and training needs of veterans; and (e) carry out such other activities deemed necessary to making required reports and recommendations under section 4110(f) of Title 38, U.S. Code. Per section 4110(c)(1) of Title 38, U.S. Code, the Secretary shall appoint at least twelve, but no more than sixteen, individuals to serve as Special Government Employees of the ACVETEO as follows: Seven individuals, one each from the following organizations: (i) The Society for Human Resource Management; (ii) the Business Roundtable; (iii) the National Association of State Workforce Agencies; (iv) the United States Chamber of Commerce; (v) the National Federation of Independent Business; (vi) a nationally recognized labor union or organization; and (vii) the National Governors Association. The Secretary shall appoint not more than five individuals nominated by veterans' service organizations that have a national employment program and not more than five individuals who are recognized authorities in the fields of business, employment, training, rehabilitation, or labor and who are not employees of DOL.

Requirements for Nomination Submission: Nominations should be typewritten (one nomination per nominator). The nomination package should include:

(1) Letter of nomination that clearly states the name and affiliation of the nominee, the basis for the nomination (i.e., specific attributes, including military service, if applicable, that qualifies the nominee for service in this capacity);

(2) Statement from the nominee indicating willingness to regularly attend and participate in Committee meetings;

(3) Nominee's contact information, including name, mailing address, telephone number(s), and email address;

(4) Nominee's curriculum vitae or resume;

(5) Summary of the nominee's experience and qualifications relative to the experience listed above;

(6) Nominee biography; and

(7) Statement that the nominee has no apparent conflicts of interest that would preclude membership.

Individuals selected for appointment to the Committee will be reimbursed for per diem and travel for attending Committee meetings. The Department makes every effort to ensure that the membership of its Federal advisory committees is fairly balanced in terms of points of view represented. Every effort is made to ensure that a broad representation of geographic areas, gender, racial and ethnic minority groups, and the disabled are given consideration for membership. Appointment to this Committee shall be made without discrimination because of a person's race, color, religion, sex (including gender identity, transgender status, sexual orientation, and pregnancy), national origin, age, disability, or genetic information. An ethics review is conducted for each selected nominee.

Signed at Washington, DC, on July 16, 2018.
Matthew M. Miller,
Deputy Assistant Secretary for Veterans' Employment and Training.

[FR Doc. 2018-15712 Filed 7-20-18; 8:45 am]

BILLING CODE 4510-79-P